COMMODITY FUTURES TRADING COMMISSION

Sunshine Act Meetings

The following notice of meeting is published pursuant to the provisions of the Government in the Sunshine Act, Public Law 94-409, 5 U.S.C. 552b.

AGENCY HOLDING THE MEETING: Commodity Futures Trading Commission.

TIME AND DATE: 9:30 a.m. to 11 a.m., October 1, 2010.

PLACE: Three Lafayette Center, 1155 21st St., NW., Washington, DC, Lobby Level Hearing Room (Room 1000).

STATUS: Open.

MATTERS TO BE CONSIDERED: • Issuance of an interim final rule relating to the time frame for reporting pre-enactment unexpired swaps to a swap data repository or to the Commission;

• Issuance of proposed rules that would prescribe (i) certain risk management standards for those derivatives clearing organizations designated as systemically important (“SIDCOs”) by the Financial Stability Oversight Council under Title VIII of the Dodd-Frank Act and (ii) standards requiring sixty (60) days advance notice of changes in SIDCO rules, procedures, or operations that materially affect the nature or level of risks presented by the SIDCO; and

• Issuance of proposed rules specifying requirements for derivatives clearing organizations, designated contract markets, and swap execution facilities on governance arrangements and mitigation of conflicts of interest.

CONTACT PERSON FOR MORE INFORMATION: David A. Stawick, Secretary of the Commission, 202-418-5071.

David A. Stawick,
Secretary of the Commission.

[FR Doc. 2010-23821 Filed 9-20-10; 4:15 pm]

BILLING CODE 6351-01-P